DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project on State Route 55 (Post Miles 10.4 to R17.9) in the Cities of Orange, Tustin, Santa Ana, and Anaheim in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 24, 2020. If the Federal law that authorizes judicial review of a claim provides a time period of less than 150 days for filing such claim, then that shorter time period still applies.

FOR FURTHER INFORMATION CONTACT: For Caltrans: Brian Liu, Caltrans Division of Environmental Analysis, Specialist Branch, Caltrans District 12, 1750 East 4th Street, Suite 100, Santa Ana, CA, 92705; (657) 328-6135, Brian.Liu@dot.ca.gov. For FHWA, contact David Tedrick at (916) 498-5024 or email David.Tedrick@dot.gov.

SUPPLEMENTARY INFORMATION: Effective July 1, 2007, the Federal Highway Administration (FHWA) assigned, and Caltrans assumed, environmental responsibilities for this project pursuant to 23 U.S.C. 327. Notice is hereby given that the Caltrans has taken final agency actions subject to 23 U.S.C. 139(l)(1) by issuing licenses, permits, and approvals for the following highway project in the State of California: The State Route 55 Improvement Project Between Interstate 5 and State Route 91 proposes capacity and operational improvements on the State Route (SR) 55 in both directions from just north of the Interstate 5 (I-5)/State Route 55 (SR55) interchange to just south of SR 91 between Post Miles 10.4 and R17.9 in the cities of Tustin, Santa Ana, Orange, and Anaheim in Orange County, California. Caltrans has identified the Build Alternative as the Preferred Alternative. The actions by the Federal agencies, and the laws under which such actions were taken, are described in the Final Environmental Assessment/Finding of No Significant Impact (EA/FONSI) for the project, approved on March 30, 2020 and in other documents in the FHWA project records. The EA/FONSI, and other project records are available by contacting Caltrans at the addresses provided above.

This notice applies to all Federal agency decisions as of the issuance date of this notice and all laws under which such actions were taken, including but not limited to:

1. Council on Environmental Quality Regulations

2. National Environmental Policy Act (NEPA) (42 U.S.C. 4321-4351)

3. Department of Transportation Act of 1966

4. Federal Aid Highway Act of 1970, 23 U.S.C. 109

5. Clean Air Act Amendments (42 U.S.C. 7401-7671 [q])

6. 23 CFR part 772 FHWA Noise Standards, Policies and Procedures;

7. Department of Transportation Act of 1966, Section 4(f) (49 U.S.C. 303)

8. Clean Water Act of 1977 and 1987

9. Federal Water Pollution Control Act of 1972 (see Clean Water Act of 1977 & 1987)

10. Federal Land Policy and Management Act of 1976 (Paleontological Resources)

11. Safe Drinking Water Act of 1944, as amended

12. Endangered Species Act of 1973

13. Executive Order 11990, Protection of Wetlands

14. Executive Order 13112, Invasive Species

15. Executive Order 13186, Migratory Birds

16. Fish and Wildlife Coordination Act of 1934, as amended

17. Migratory Bird Treaty Act

18. National Historic Preservation Act of 1966, as amended

19. Historic Sites Act of 1935, and

20. Executive Order 11988, Floodplain Management

21. Title VI of the Civil Rights Act of 1964, as amended

22. Executive Order 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1).

Issued on: April 20, 2020.
Tashia J. Clemons,
Director, Planning and Environment, Federal Highway Administration, California Division.

[FR Doc. 2020-08889 Filed 4-24-20; 8:45 am]

BILLING CODE 4910-RY-P